INTERNATIONAL TRADE COMMISSION

[Investigation No. 337-TA-1319]

Certain Electronic Devices and Semiconductor Devices With Timing-Aware Dummy Fill and Components Thereof; Notice of the Commission's Determination Not To Review an Initial Determination Setting a 20-Month Target Date and an Initial Determination Granting a Motion To Intervene

AGENCY: U.S. International Trade Commission.

ACTION: Notice.

SUMMARY: Notice is hereby given that the U.S. International Trade Commission has determined not to review the presiding administrative law judge's (“ALJ”) initial determination (“ID”) (Order No. 3) setting a 20-month target date and an ID (Order No. 5) granting Cadence Design Systems, Inc.'s (“Cadence”) motion to intervene.

FOR FURTHER INFORMATION CONTACT: Amanda Pitcher Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 13, 2022, based on a complaint filed by Bell Semiconductor, LLC of Bethlehem, Pennsylvania (“Complainant”). 87 FR 35791-92 (June 13, 2022). The complaint, as supplemented, alleged violations of section 337 of the Tariff Act of 1930, as amended, 19 U.S.C. 1337, based upon the importation into the United States, the sale for importation, and the sale within the United States after importation of certain electronic devices and semiconductor devices with timing-aware dummy fill and components thereof by reason of the infringement of certain claims of U.S. Patent No. 7,007,259. The complaint, as supplemented, further alleged that a domestic industry exists. The notice of investigation named as respondents: NXP Semiconductors, N.V. of Eindhoven, Netherlands; NXP B.V. of Eindhoven, Netherlands; NXP USA, Inc. of Austin, Texas; SMC Networks, Inc. d/b/a/IgniteNet of Irvine, California; Micron Technology, Inc. of Boise, Idaho; NVIDIA Corporation of Santa Clara, California; Advanced Micro Devices, Inc. of Santa Clara, California; Acer, Inc. of New Taipei City, Taiwan; Acer America Corporation of San Jose, California; Infineon Technologies America Corp. of Milpitas, California; Analog Devices Inc. of Norwood, Massachusetts; Bose Corporation of Framingham, Massachusetts; Marvell Technology Group, Ltd. of Hamilton, Bermuda; Marvell Semiconductor, Inc. of Santa Clara, California; Suteng Innovation Technology Co., Ltd. d/b/a RoboSense of Shenzen, China; Kioxia Corporation of Tokyo, Japan; Kioxia America, Inc. of San Jose, California; Socionext Inc. of Yokohama, Japan; Socionext America, Inc. of Santa Clara, California; Qualcomm Technologies, Inc. of San Diego, California; Lenovo Group Ltd. of Haidan District, China and Motorola Mobility LLC of Chicago, Illinois. The Office of Unfair Import Investigations (“OUII”) is also participating in the investigation.

On June 15, 2022, Cadence moved to intervene in the instant investigation with full participation rights and obligations. Motion at 1-2 (June. 15, 2022). Cadence asserts, however, that while it requests full participation rights as an intervening party, it does not seek to be accorded respondent status. Cadence explains that Complainant's infringement allegations rely, at least in part, on the functionality of Cadence's software tool technology which is alleged to be used to design one or more of the respondents' devices. Id. at 4-6. Cadence further argues that Complainant also relies on Cadence's products to allege the existence of a domestic industry. Id. at 6-7. Cadence explains that the Commission follows Rule 24 of the Rules of Civil Procedure which “provides that a party may intervene when it files a timely motion, has an interest relating to the property or transaction which is the subject of the action, is so situated that the disposition of the action may as a practical matter impair or impede its ability to protect that interest, and is not adequately represented by existing parties.” Id. at 7 (citing Rule 24). Cadence contends (1) that it has substantial interest in this investigation because Complainant seeks to exclude at least some products because they are made, produced, or processed by design tools from Cadence, (2) Cadence is the only party with knowledge of its technology and has the greatest interest in defending it, and (3) its motion is timely. Id. at 8-11.

On June 23, 2022, the presiding ALJ issued an ID (Order No. 5) granting Cadence's motion to intervene. The ID found that Cadence meets the requirements of Commission Rule 210.19 (19 CFR 210.19) and established that it has interests in this investigation, and thus the ALJ determined that Cadence should be granted intervenor status. No one petitioned for review of Order No. 5.

Also, on June 23, 2022, the presiding ALJ issued Order No. 3 setting a 20-month target date of February 20, 2024. The ID explained that the target date is necessary due to the ALJ's obligations in other investigations.

On June 30, 2022, Complainant petitioned for review of Order No. 3. On July 8, 2022, OUII, Respondents Analog Devices, Inc., Infineon Technologies Americas Corp., Bose Corporation, Motorola Mobility LLC, Qualcomm Technologies, Inc., Acer, Inc., Acer America Corporation, Advanced Micro Devices, Inc., and Micron Technology, Inc., and Respondents Kioxia Corporation, Kioxia America, Inc., Marvell Semiconductor, Inc., Marvell Technology Group Ltd., NVIDIA Corporation, NXP Semiconductors, N.V., NXP B.V, NXP USA, Inc., Suteng Innovation Technology Co. Ltd. d/b/a RoboSense, Socionext Inc., Socionext America, Inc., and SMC Networks, Inc. d/b/a/IgniteNet filed separate responses to Complainant's petition for review.

The Commission has determined not to review the subject IDs. With respect to Order No. 3, the Commission notes that the ALJs have wide discretion in managing their own caseloads. The target date for this investigation was set, for good cause, at 20-months based on the ALJ's obligations in other matters.

The Commission vote for this determination took place on July 25, 2022.

The authority for the Commission's determination is contained in section 337 of the Tariff Act of 1930, as amended (19 U.S.C. 1337), and in Part 210 of the Commission's Rules of Practice and Procedure (19 CFR part 210).

By order of the Commission.
Issued: July 25, 2022.
Katherine Hiner,
Acting Secretary to the Commission.

[FR Doc. 2022-16231 Filed 7-27-22; 8:45 am]

BILLING CODE 7020-02-P